DEPARTMENT OF COMMERCE

Bureau of Industry and Security

[Docket No. 080416579-81111-02]

Reopening of Request for Public Comments on Deemed Export Advisory Committee Recommendations: Narrowing the Scope of Technologies on the Commerce Control List Subject to Deemed Export Licensing Requirements and Implementing a More Comprehensive Set of Criteria for Assessing Probable Country Affiliation for Foreign Nationals

AGENCY: Bureau of Industry and Security, Commerce.

ACTION: Notice of inquiry; reopening of comment period.

SUMMARY: This notice reopens the comment period on the notice of inquiry (73 FR 28795) that sought comments regarding two specific recommendations made by the Deemed Export Advisory Committee (DEAC) with respect to the Bureau of Industry and Security's (BIS's) deemed export licensing policy. The new comment period deadline is September 22, 2008.

DATES: Comments must be received no later than September 22, 2008.

FOR FURTHER INFORMATION CONTACT: Steven Emme, Regulatory Policy Division, 202-482-2440, semme@bis.doc.gov. The DEAC report may be accessed at http://tac.bis.doc.gov/2007/deacreport.pdf.

ADDRESSES: You may submit comments, identified by “DEAC Report comments,” by any of the following methods:

• Federal eRulemaking Portal: http://www.regulations.gov. Follow the instructions for submitting comments.

• E-mail: rpd2@bis.doc.gov. Include “DEAC Report comments” in the subject line of the message.

• Fax: 202-482-3355

• Hand Delivery/Courier: Steven Emme, U.S. Department of Commerce, Bureau of Industry and Security, Regulatory Policy Division, 14th & Pennsylvania Avenue, NW., Room 2705, Washington, DC 20230, ATTN: DEAC Report comments.

SUPPLEMENTARY INFORMATION: On May 19, 2008, the Bureau of Industry and Security (BIS) published a notice of inquiry (73 FR 28795) to elicit comments regarding two specific recommendations made by the Deemed Export Advisory Committee (DEAC) with respect to the Bureau of Industry and Security's (BIS's) deemed export licensing policy. BIS is continuing to seek comments on whether the scope of technologies on the Commerce Control List that are subject to deemed export licensing requirements should be narrowed, and if so, which technologies should be subject to deemed export licensing requirements. Additionally, BIS is continuing to seek comments on whether a more comprehensive set of criteria should be used to assess country affiliation for foreign nationals with respect to deemed exports.

The original deadline for comments was August 18, 2008. BIS is now reopening the comment period to allow the public more time to comment on this notice of inquiry. The new comment period will end September 22, 2008.

Dated: August 18, 2008.
Bernard Kritzer,
Director, Office of Exporter Services.

[FR Doc. E8-19558 Filed 8-21-08; 8:45 am]

BILLING CODE 3510-33-P